DEPARTMENT OF COMMERCE

National Oceanic and Atmospheric Administration

RIN 0648-XD398

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a meeting of the Socioeconomic Scientific and Statistical Committee (SSC).

DATES: The meeting will be held from 9 a.m. until 5 p.m. on Tuesday, August 5, 2014.

ADDRESSES: Meeting address: The meeting will be held at the Council's office.

Council address: Gulf of Mexico Fishery Management Council, 2203 North Lois Avenue, Suite 1100, Tampa, FL, 33607.

FOR FURTHER INFORMATION CONTACT: Dr. Assane Diagne, Economist, Gulf of Mexico Fishery Management Council; telephone: (813) 348-1630; fax: (813) 348-1711; email: assane.diagne@gulfcouncil.org.

SUPPLEMENTARY INFORMATION: The items of discussion on the agenda are as follows:

Socioeconomic SSC Agenda, Tuesday, August 5, 2014, 9 a.m. Until 5 p.m.

1. Adoption of Agenda

2. Reef Fish Amendment 28—Red Snapper Allocation

3. Discussion and Review

—Review of Agar and Carter's Economic Analysis of Red Snapper Allocation Alternatives for Reef Fish Amendment 28 (King and Buc)

—Comments on the King and Buc Review (Bergstrom and Southwick Associates)

—Review of NOAA Technical Memorandum NMFS-NWFSC-115 Allocation of Fishery Harvests under the Magnuson-Stevens Fishery Conversation and Management Act: Principles and Practice

4. Recommendations to the Council

5. Incorporating Economics into Stock Assessments

6. Other Business

For meeting materials see folder “Socioeconomic SSC meeting—2014-08” on Gulf Council file server. To access the file server, the URL is https://public.gulfcouncil.org:5001/webman/index.cgi, or go to the Council's Web site and click on the FTP link in the lower left of the Council Web site (http://www.gulfcouncil.org). The username and password are both “gulfguest”. The name of the folder on the FTP server is “Socioeconomic SSC meeting—2014—08”.

The Agenda is subject to change. The latest version will be posted in the “Socioeconomic SSC meeting—2014-08” folder on the Council's file server. The meeting will be webcast over the internet. A link to the webcast will be available on the Council's Web site, http://www.gulfcouncil.org.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Kathy Pereira at the Council Office (see ADDRESSES), at least 5 working days prior to the meeting.

Note: The times and sequence specified in this agenda are subject to change.

Authority: 16 U.S.C 1801 et seq.

Dated: July 16, 2014.
Tracey L. Thompson,
Acting Deputy Director, Office of Sustainable Fisheries, National Marine Fisheries Service.

[FR Doc. 2014-17024 Filed 7-18-14; 8:45 am]

BILLING CODE 3510-22-P